DEPARTMENT OF TRANSPORTATION

National Highway Traffic Safety Administration

[Docket No. NHTSA-2025-0128]

Agency Information Collection Activities; Notice and Request for Comment; Drive-Mode Design Best Practices

AGENCY: National Highway Traffic Safety Administration (NHTSA), Department of Transportation (DOT).

ACTION: Notice and request for comments on a request for approval of a new information collection.

SUMMARY: NHTSA invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on a one-time voluntary experiment which will examine how different drive mode implementations affect driver attention and performance compared to standard interfaces.

DATES: Comments must be submitted on or before April 13, 2026.

ADDRESSES: You may submit comments identified by the Docket No. NHTSA-2025-0128 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Starla Weaver, Office of Vehicle Crash Avoidance and Electronic Controls Research, Human Factors Division (NSR-310), W46-424, 202-366-7409, National Highway Traffic Safety Administration, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Drive-Mode Design Best Practices.

OMB Control Number: New.

Form Number(s): NHSTA Form 2112, 2113, 2114, and 2115.

Type of Request: Approval of a new information collection request.

Type of Review Requested: Regular.

Requested Expiration Date of Approval: Three years from date of approval.

Summary of the Collection of Information: The National Highway Traffic Safety Administration (NHTSA) of the U.S. Department of Transportation is seeking approval for a one-time voluntary information collection from 96 licensed drivers of various ages for a research study which will examine how different drive mode implementations affect driver attention and performance compared to standard interfaces. NHTSA expects to provide screening questionnaires to 300 potential participants in the greater Phoenix area to determine their eligibility for this experiment. Recruiting participants for this study has an estimated burden of approximately 75 hours for the screening questions. The data collection will include a test track component and a cones course component, in which 36 participants are estimated to be eligible and interested in each. (While the goal is 36 final participants per experiment, the research team will ensure eligibility and interest of up to 96 participants total to account for potential attrition and replacement). The test track experiment has a total expected burden of 128 hours, and the cones course experiment has a total expected burden of 104 hours. In the test track experiment, participants will perform tasks on a mobile phone in a stationary vehicle, while wearing occlusion glasses, and while driving around a test track. In the cones course experiment, participants will perform tasks while driving through a cones course. Across both experiments, data will be collected by the experimenter who will provide instructions to the participant and will observe participant performance; using GoPro cameras that will monitor the participant and the driving environment; and using the Ergoneers Dikablis Glasses X eye-tracking system, which will record gaze position, pupil diameter, and blink behavior. The total expected burden for this collection is 331 hours. NHTSA will use this information to produce a technical report that will provide summary figures and tables, as well as the results of statistical analysis of the information. No identifying information or individual responses will be reported. The technical report will be shared with NHTSA and the Department of Transportation. Members of the general public would have access to the aggregated information when written reports are published. This project involves approval by an institutional review board, which the contractor will obtain before contacting potential participants. This collection will be used to generate evidence-based best practices for the design of future drive mode applications and functionalities for mobile phones operating independently of in-vehicle systems.

Description of the Need for the Information and Proposed Use of the Information: Driver distraction remains a significant safety threat, claiming thousands of lives annually, according to the latest data from the National Highway Traffic Safety Administration (NHTSA).¹ NHTSA has implemented a multi-faceted approach to combat this issue, including public awareness campaigns like “Put the Phone Away or Pay,” increased law enforcement visibility,² and the development of Driver Distraction Guidelines for in-vehicle electronic device design.³

¹ National Center for Statistics and Analysis. (2024). Distracted driving in 2022 (Report No. DOT HS 813 559). National Highway Traffic Safety Administration.

² Chaudhary, N.K., Connolly, J., Tison, J., Solomon, M., & Elliott, K. (2015). Evaluation of the NHTSA distracted driving high-visibility enforcement demonstration projects in California and Delaware. (Report No. DOT HS 812 108). National Highway Traffic Safety Administration.

³ National Highway Traffic Safety Administration. (2013). Visual-manual NHTSA driver distraction guidelines for in-vehicle electronic devices (Federal Register Vol. 78, No. 81). Washington, DC.

National Highway Traffic Safety Administration. (2014). Visual-manual NHTSA driver distraction guidelines for in-vehicle electronic devices (Federal Register Vol. 79, No. 179). Washington, DC.

A key focus of the NHTSA Distraction Guidelines has been addressing visual-manual distractions, which are a major safety concern with in-vehicle systems.⁴ The guidelines established test protocols and acceptance criteria for measuring this type of distraction.⁵ In 2016, NHTSA proposed expanding these guidelines to include portable and aftermarket devices.⁶ This proposal advocated for pairing smartphones with vehicle systems, contributing to the widespread adoption of platforms like Apple CarPlay and Android Auto. NHTSA also promoted “drive mode” for unpaired mobile phones, defining it as a simplified user interface designed for safe driving.⁷ To further refine its research agenda, NHTSA convened a Distraction Action Forum in August 2024.

⁴ Fitch, G.A., Soccolich, S.A., Guo, F., McClafferty, J., Fang, Y., Olson, R.L., Perez, M.A., Hanowski, R.J., Hankey, J.M., & Dingus, T.A. (2013). The impact of hand-held and hands-free cell phone use on driving performance and safety-critical event risk. (Report No. DOT HS 811 757). National Highway Traffic Safety Administration. Klauer, S.G., Dingus, T.A., Neale, V.L., Sudweeks, J.D., & Ramsey, D.J. (2006). The impact of driver inattention on near-crash/crash risk: An analysis using the 100-car naturalistic driving study data. (Report No. DOT HS 810 594). National Highway Traffic Safety Administration.

⁵ National Highway Traffic Safety Administration. (2013). Visual-manual NHTSA driver distraction guidelines for in-vehicle electronic devices (Federal Register Vol. 78, No. 81). Washington, DC.

⁶ National Highway Traffic Safety Administration. (2016). Visual-manual NHTSA driver distraction guidelines for portable and aftermarket devices—Notice for Comment (Federal Register Vol. 81, No. 233). Washington, DC.

⁷ National Highway Traffic Safety Administration. (2016). Visual-manual NHTSA driver distraction guidelines for portable and aftermarket devices—Notice for Comment (Federal Register Vol. 81, No. 233). Washington, DC.

Drive mode limits phone functionality and simplifies the human-machine interface (HMI).

This collection will provide answers to NHTSA's objectives for this task order, which include determining how the interface of cell phones and electronic devices differ when operating in drive mode relative to their standard operations, determining what changes in functionality occur when drive mode is enabled, determining how much variability exists across different driver mode implementations, determining how well drive mode interfaces and functionality comply with the recommendations in the NHSTA Driver Distraction Guidelines, and identifying what factors influence user acceptance and use of drive mode. This collection will be used to investigate how drive mode implementations impact driver attention and performance as compared to their standard interfaces. NHTSA will use the information gathered to produce a technical report that presents the results of the study. The technical report will provide summary statistics and tables, as well as the results of data analysis of the information, but it will not include any personally identifiable information. The technical report will be published to the National Transportation Library and available to the general public. The report may also be of interest to a variety of stakeholders, including automotive manufacturers, suppliers, researchers, safety advocates, and regulators. The study results will provide NHTSA with valuable information to support initiatives to generate evidence-based best practices for the design of future drive mode applications and functionalities for mobile phones operating independently of in-vehicle systems. The results support the agency's mission to reduce the number of deaths, injuries, and economic losses resulting from motor vehicle crashes related to driver distraction on U.S. roads.

Affected Public: Study volunteers in the Phoenix, Arizona area between the ages of 18 and 60. Of the selected participants, equal numbers of males and females will be recruited.

Estimated Number of Respondents: The study anticipates screening 300 potential participants to obtain 96 individuals who meet the inclusion criteria. It is estimated that approximately 35% of those who begin the screening questionnaire will be eligible and will agree to participate in the study. While the goal is 36 final participants per experiment, (72 participants total) the research team will ensure eligibility and interest of up to 96 participants total to account for potential attrition and data loss.

Frequency: This is a one-time information collection, and there will be no recurrence.

Estimated Total Annual Burden Hours: 111.

The annual estimated burned is 111 hours. This estimate includes 25 hours for 100 potential participants to complete the initial screening. The annual burden estimate also includes 8 hours for 32 participants to review the consent form. An additional 43 hours are estimated for the 16 annual participants in the test track experiment and 35 hours for the 16 annual participants in the cones course experiment. The total burden is the sum of the burden across screening, consenting, and completing the test track or cones course drive. The details are presented in Table 1 and Table 2 below:

Table 1—Total Study Burden Hours
Form No. | Information collection | Number of respondents | Time per response (minutes) | Frequency of response | Total burden hours | Total opportunity costs
NHTSA 2112 | Screening Questionnaire | 300 | 15 | 1 | 75 | $3,082
NHTSA 2113 & 2115 | Informed Consent | 96 | 15 | 1 | 24 | 986
NHTSA 2114 | Study Drive (Test Track) | 48 | 160 | 1 | 128 | 5,260
NHTSA 2114 | Study Drive (Cones Course) | 48 | 130 | 1 | 104 | 4,273
Total |  |  |  |  | 331 | 13,901

Table 2—Annual Burden Estimates
Form No. | Information collection | Number of respondents | Time per response (minutes) | Opportunity cost per response | Frequency of response | Total burden hours | Total opportunity costs
NHTSA 2112 | Screening Questionnaire | 100 | 15 | $10.27 | 1 | 25 | $1,027
NHTSA 2113 & 2115 | Informed Consent | 32 | 15 | 10.27 | 1 | 8 | 329
NHTSA 2114 | Study Drive (Test Track) | 16 | 160 | 109.57 | 1 | 43 | 1,753
NHTSA 2114 | Study Drive (Cones Course) | 16 | 130 | 89.03 | 1 | 35 | 1,424
Annual Estimates |  |  |  |  | 111 | 4,533

Estimated Total Annual Burden Cost: Participation in this study is voluntary, and there are no costs to respondents beyond the time spent completing the questionnaires and visits to the study facility. Further, there is no preparation of data required or expected of respondents, thus there are no record keeping costs to the respondents. Participants do not incur capital and start-up costs, nor do they incur fuel costs as the vehicles being driven are not the participants vehicles. Individuals will complete one study drive, either the test track drive or the cones course drive. For individuals who participate in the test track study, they will be offered $375 as compensation for their participation. For individuals who participate in the cones course study, participants will be offered $300 as compensation for completing the study requirements. Our experience indicates that anything less than the rate of $150 per hour for total compensation would likely result in failure to recruit enough participants to provide adequate statistical power. This level of compensation is in line with past similar efforts given the activities it requires of participants.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

(Authority: The Paperwork Reduction Act of 1995; 44 U.S.C. Chapter 35, as amended; 49 CFR 1.49; and DOT Order 1351.29A.)

Cem Hatipoglu,
Associate Administrator, Vehicle Safety Research.

[FR Doc. 2026-02657 Filed 2-10-26; 8:45 am]

BILLING CODE 4910-59-P